DEPARTMENT OF COMMERCE

National Oceanic and Atmospheric Administration

Evaluation of U.S. Virgin Islands Coastal Management Program; Notice of Public Meetings; Request for Comments

AGENCY: Office for Coastal Management, National Ocean Service, National Oceanic and Atmospheric Administration, Department of Commerce.

ACTION: Notice of public meetings and opportunity to comment.

SUMMARY: The National Oceanic and Atmospheric Administration (NOAA), Office for Coastal Management, will hold three in-person public meetings to solicit input on the performance evaluation of the U.S. Virgin Islands Coastal Management Program. NOAA also invites the public to submit written comments.

DATES: NOAA will hold in-person public meetings on Tuesday, May 14, 2024, at 5 p.m. on St. Thomas; on Wednesday, May 15, 2024, at 5 p.m. on St. John; and on Thursday, May 16, 2024, at 5 p.m. on St. Croix. NOAA may close the meetings 10 minutes after the conclusion of public testimony and after responding to any clarifying questions from participants. NOAA will consider all relevant written comments received by Friday, May 24, 2024.

ADDRESSES: Comments may be submitted by one of the following methods:

• In-Person Public Meeting: Provide oral comments during an in-person public meeting.

○ St. Thomas: Tuesday, May 14, 2024, at 5 p.m. at Department of Planning and Natural Resources Offices, 4611 Tutu Park Mall, Suite 300, St. Thomas, U.S. Virgin Islands 00802;

○ St. John: Wednesday, May 15, 2024, at 5 p.m. at Legislature of the U.S. Virgin Islands St. John Annex, 1D Great Cruz Bay Road, Cruz Bay, St. John, U.S. Virgin Islands 00830; or

○ St. Croix: Thursday, May 16, 2024, at 5 p.m. at University of the Virgin Islands Great Hall, Albert A. Sheen Campus, St. Croix, U.S. Virgin Islands.

• Email: Send written comments to Michael Migliori, Evaluator, NOAA Office for Coastal Management, at Michael.Migliori@noaa.gov. Include “Comments on Performance Evaluation of the U.S. Virgin Islands Coastal Management Program” in the subject line of the message.

NOAA will accept anonymous comments; however, the written comments NOAA receives are considered part of the public record, and the entirety of the comment, including the name of the commenter, email address, attachments, and other supporting materials, will be publicly accessible. Sensitive personally identifiable information, such as account numbers and Social Security numbers, should not be included with the comment. Comments that are not related to the performance evaluation of the U.S. Virgin Islands Coastal Management Program or that contain profanity, vulgarity, threats, or other inappropriate language will not be considered.

FOR FURTHER INFORMATION CONTACT: Michael Migliori, Evaluator, NOAA Office for Coastal Management, by email at Michael.Migliori@noaa.gov or by phone at (443) 332-8936. Copies of the previous evaluation findings and Assessment and Strategies may be viewed and downloaded at http://coast.noaa.gov/czm/evaluations/. A copy of the evaluation notification letter and most recent progress report may be obtained upon request by contacting Michael Migliori.

SUPPLEMENTARY INFORMATION: Section 312 of the Coastal Zone Management Act (CZMA) requires NOAA to conduct periodic evaluations of federally approved coastal management programs. The evaluation process includes holding one or more public meetings, considering public comments, and consulting with interested Federal, State, and local agencies and members of the public. During the evaluation, NOAA will consider the extent to which the territory of the U.S. Virgin Islands has met the national objectives, adhered to the management program approved by the Secretary of Commerce, and adhered to the terms of financial assistance under the CZMA. When the evaluation is complete, NOAA's Office for Coastal Management will place a notice in the Federal Register announcing the availability of the final evaluation findings.

(Authority: 16 U.S.C. 1458)

Keelin Kuipers,
Deputy Director, Office for Coastal Management, National Ocean Service, National Oceanic and Atmospheric Administration.

[FR Doc. 2024-05136 Filed 3-11-24; 8:45 am]

BILLING CODE 3510-08-P